DEPARTMENT OF AGRICULTURE

Foreign Agricultural Service

Notice of Request for Revision of a Currently Approved Information Collection

AGENCY: Foreign Agricultural Service.

ACTION: Notice and request for comments.

SUMMARY: In accordance with the Paperwork Reduction Act (PRA) of 1995, this notice announces the intention of the Foreign Agricultural Service to request a revision of a currently approved information collection for the Agriculture Wool Apparel Manufacturers Trust Fund.

DATES: Comments on this notice must be received by August 27, 2018 to be assured of consideration.

ADDRESSES: FAS invites interested persons to submit comments on this notice. In your comment, include the volume, date, and page number of this issue of the Federal Register. You may submit comments by any of the following methods:

• Federal eRulemaking Portal: Go to http://www.regulations.gov. This website provides the ability to type short comments directly into the comment field on this web page or attach a file for lengthier comments. Follow the on-line instructions for submitting comments.

• Mail, hand delivery, or courier: Peter W. Burr, Foreign Agricultural Service, U.S. Department of Agriculture, 1400 Independence Avenue SW, Room 5531, Mailstop 1021, Washington, DC 20250.

• Email: iperd@fas.usda.gov. Include Agency Name and the OMB Control Number in the subject line of the message.

Instructions: All submissions submitted by mail or electronic mail must include the Agency name and OMB Control Number. Comments received in response to this docket will be made available for public inspection and posted without change, including any personal information, to http://www.regulations.gov.

Persons with disabilities who require an alternative means for communication of information (e.g., Braille, large print, audiotape, etc.) should contact USDA's Target Center at (202) 720-2600 (voice and TDD).

FOR FURTHER INFORMATION CONTACT: Peter W. Burr, (202) 720-8877, iperd@fas.usda.gov.

SUPPLEMENTARY INFORMATION:

Title: Agriculture Wool Apparel Manufacturers Trust Fund.

OMB Control Number: 0551-0045.

Expiration Date of Approval: September 30, 2018.

Type of Request: Revision of a currently approved information collection.

Abstract: This information collection is required for affidavits submitted to FAS for claims against the Agriculture Wool Apparel Manufacturers Trust Fund. Claimants of the Agriculture Wool Apparel Manufacturers Trust Fund will be required to submit electronically a notarized affidavit and information pertaining to the production of worsted wool suits, suit-type jackets, or trousers for boys and men; or the weaving of wool yarn, wool fiber, or wool top. This electronic filing would be in lieu of the current paper document submission.

Estimate of Burden: Public reporting burden for this collection of information is estimated to average approximately 2 hours per response for affidavits related to the Agriculture Wool Apparel Manufacturers Trust Fund.

Type of Respondents: Under the Agriculture Wool Apparel Manufacturers Trust Fund there are four groups of potential respondents, as authorized by Section 12315 of Act (Pub. L. 113-79): (1) Persons in the United States who produced worsted wool suits, suit-type jackets, or trousers for men and boys in the year prior to the application using worsted wool fabric of the kind described in headings 9902.51.11, 9902.51.15, or who wove worsted wool fabrics suitable for use in making men and boys suits under heading 9902.51.16 of the Harmonized Tariff Schedule of the United States; (2) Persons in the United States who processed wool yarn, wool fiber, or wool top of the kind described in headings 9902.51.13 or 9902.51.14 of the Harmonized Tariff Schedule of the United States in the year prior to the application; (3) Persons in the United States who wove worsted wool fabrics of the kind described in headings 9902.51.11 and or 9902.51.15 of the Harmonized Tariff Schedule of the United States in the year prior to the application and in the years 1999, 2000, and 2001; (4) Persons in the United States who manufactured certain wool articles made with certain imported wool products during calendar years 2000, 2001, and 2002; received a 2005 payment under section 505 of the Trade and Development Act of 2000; and who continue to be a manufacturer in the United States as provided for in Section 505(a) of the Trade and Development Act of 2000.

Estimated Number of Respondents: 95.

Estimated Number of Responses: 95.

Estimated Number of Responses per Respondent: 1.

Estimated Total Annual Burden on Respondents: 190 hours.

Request for Comments: We are requesting comments on all aspects of this information collection to help us to: (1) Evaluate whether the collection of information is necessary for the proper performance of FAS's functions, including whether the information will have practical utility; (2) Evaluate the accuracy of FAS's estimate of burden including the validity of the methodology and assumptions used; (3) Enhance the quality, utility and clarity of the information to be collected; and (4) Minimize the burden of the collection of information on those who are to respond, including through the use of appropriate automated, electronic, mechanical, or other technological collection techniques or other forms of information technology. Copies of this information collection can be obtained from Connie Ehrhart, the Agency Information Collection Coordinator, at (202) 690-1578 or email at Connie.Ehrhart@fas.usda.gov.

All comments received in response to this notice, including names and addresses when provided, will be a matter of public record. Comments will be summarized and included in the submission for the Office of Management and Budget's approval.

E-Government Act Compliance

FAS is committed to complying with the E-Government Act, to promote the use of the internet and other information technologies to provide increased opportunities for citizen access to Government information and services, and for other purposes.

Dated: June 18, 2018.
Ken Isley,
Administrator, Foreign Agricultural Service.

[FR Doc. 2018-13910 Filed 6-27-18; 8:45 am]

BILLING CODE 3410-10-P